DEPARTMENT OF AGRICULTURE

Food and Nutrition Service

Agency Information Collection Activities: Proposed Collection; Comment Request—Summer Food Service Program

AGENCY: Food and Nutrition Service, USDA.

ACTION: Notice.

SUMMARY: In accordance with the Paperwork Reduction Act of 1995, this notice invites the general public and other public agencies to comment on the Agency's proposed information collection for the Summer Food Service Program. This collection is a revision of a currently approved information collection.

DATES: Written comments must be received on or before February 16, 2016.

ADDRESSES: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Lynn Rodgers-Kuperman, Program Monitoring Branch, Program Monitoring and Operational Support Division, Child Nutrition Programs, 3101 Park Center Drive, Alexandria, VA 22302. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Lynn Rodgers-Kuperman, Program Monitoring Branch, Program Monitoring and Operational Support Division, Child Nutrition Programs, 3101 Park Center Drive, Alexandria, VA 22302.

SUPPLEMENTARY INFORMATION:

Title: Information Collection for the Summer Food Service Program (SFSP).

OMB Number: 0584-0280.

Expiration Date: March 31, 2016.

Type of Request: Revision of a currently approved collection.

Abstract: SFSP is authorized under section 13 of the Richard B. Russell National School Lunch Act (NSLA) (42 U.S.C. 1761). The SFSP is directed toward children in low-income areas when school is not in session and is operated locally by approved sponsors. Local sponsors may include public or private non-profit school food authorities (SFAs), public or private non-profit residential summer camps, units of local, municipal, county or State governments, or other private non-profit organizations that develop a special summer program and provide meal service similar to that available to children during the school year under the National School Lunch Program (NSLP) and the School Breakfast Program (SBP).

This is a revision of a currently approved collection. It revises reporting burden as a result of an increase in participating sponsors. Current OMB inventory for this collection includes Reporting and Recordkeeping burden and that consists of 175,391 hours. The reporting burden was slightly increased from 139,989 to 150,646 and Record keeping burden was increased from 35,402 to 43,758. This collection is requesting a total increase of 19, 012 burden hours. FNS 418 is no longer a part of this collection as it has been listed under a separate collection (0584-0594). The average burden per response and the annual burden hours for reporting and recordkeeping are explained below and summarized in the charts which follow.

Affected Public: State Agencies, Camps and Other Sites and Households.

Estimated Number of Respondents: 106,621.

Estimated Number of Responses per Respondent: 7.35195.

Estimated Total Annual Responses: 783,872.

Estimate Time per Response: 0.248005.

Estimated Total Annual Burden: 194,403.

Current OMB Inventory: 175,391.

Difference (Burden Revisions Requested): 19,012.

Refer to the table below for estimated total annual burden for each type of respondent.

Affected public | Est. number of respondents | Number of responses per respondent | Total annual responses | Est. total hours per response | Est. total burden
Reporting
State Agencies | 53 | 418 | 22,154 | 0.704 | 15,595
Sponsors | 5,317 | 3 | 14,726 | 4.037 | 59,444
Camps and Other Sites | 662 | 1 | 662 | .25 | 166
Households | 100,589 | 2 | 201,178 | .375 | 75,442
Total Estimated Reporting Burden | 106,621 | 2.23895 | 238,720 | .631058 | 150,646
Recordkeeping
State Agencies | 53 | 141 | 7,473 | .080 | 598
Sponsors | 5,317 | 101 | 537,017 | .08 | 42,961
Camps and Other Sites | 662 | 1 | 662 | .300 | 199
Total Estimated Record keeping Burden | 6,032 | 90.37666 | 545,152 | 0.080267 | 43,758
Total of Reporting and Recordkeeping
Reporting | 106,621 | 2.238959 | 238,720 | .631058 | 150,646
Recordkeeping | 6,032 | 90.37666 | 545,152 | .0802672 | 43,758
Total | 106,621 | 7.35195 | 783,872 | .248005 | 194,403

Dated: December 8, 2015.
Audrey Rowe,
Administrator, Food and Nutrition Service.

[FR Doc. 2015-31614 Filed 12-15-15; 8:45 am]

BILLING CODE 3410-30-P